ENVIRONMENTAL PROTECTION AGENCY

[EPA-HQ-OPP-2007-0005; FRL-8343-9]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by June 16, 2008 or January 18, 2008 for registrations for which the registrant requested a waiver of the 180-day comment period, orders will be issued canceling these registrations. The Agency will consider withdrawal requests postmarked no later than June 16, 2008 or January 18, 2008, whichever is applicable. Comments must be received on or before June 16, 2008 or January 18, 2008, for those registrations where the 180-day comment period has been waived.

ADDRESSES: Submit your comments and your withdrawal request, identified by docket identification (ID) number EPA-HQ-OPP-2007-0005, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001. Written Withdrawal Request, Attention: John Jamula, Information Technology and Resources Management Division (7502P).

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to docket ID number EPA-HQ-OPP-2007-0005. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: John Jamula, Information Technology and Resource Management Division, Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of applications from registrants to cancel 137 pesticide products registered under section 3 or 24(c) of FIFRA. These registrations are listed in sequence by registration number (or company number and 24(c) number) in the following Table 1 of this unit:

Table 1.—Registrations with Pending Requests for Cancellation
Registration no. | Product Name | Chemical Name
000004-00136 | Bonide Rabbit-Deer Repellent and Bulb Saver | Thiram
000004-00169 | Bonide Lawn Weed Killer W/banvel(r) D & 2,4-D | Benzoic acid, 3,6-dichloro-2-methoxy-, compd with N-methylmethanamine (1:1)
|  | 2,4-D, dimethylamine salt
000004-00173 | Bonide Lawn Weed Killer contains 2,4-D Plus Banvel “d” | Benzoic acid, 3,6-dichloro-2-methoxy-, compd with N-methylmethanamine (1:1)
|  | 2,4-D, dimethylamine salt
000004-00180 | Bonide Lawn Disease Control | Thiram
000004-00340 | Bonide Tobacco Dust | Nicotine
000004-00465 | Bonide Rabbit & Dog Chaser | Dried blood
|  | Naphthalene
|  | Nicotine
000056 HI-96-0008 | Eaton's Bait Blocks Rodenticide with Molasses/peanut Bu | Diphacinone
000056 HI-97-0007 | Eaton's All Weather Bait Blocks Rodenticide with Fish F | Diphacinone
000056 HI-98-0004 | Eaton's Bait Blocks Rodenticide with Molasses/peanut Butter Flavor | Diphacinone
000100-00944 | Maxim (r) Mz Potato Seed Protectant | Mancozeb
|  | Fludioxonil
000100 WA-03-0039 | Dual Magnum Herbicide | S-Metolachlor
000228-00141 | Riverdale Butoxy 2,4-D Low Volatile Ester | 2,4-D, butoxyethyl ester
000228-00208 | Riverdale Team 1.15 Lawn Weed and Feed | Trifluralin
|  | Benfluralin
000228-00310 | Riverdale Tri-Power G.T. Lawn Weed Killer | Benzoic acid, 3,6-dichloro-2-methoxy-, compd with N-methylmethanamine (1:1)
|  | MCPA, dimethylamine salt
|  | Propanoic acid, 2-(4-chloro-2-methylphenoxy)-, (R)-, compd. with N-methylmethanamine (1:1)
000241 KY-99-0003 | Acrobat MZ Fungicide | Mancozeb
|  | Dimethomorph
000241 LA-01-0020 | Acrobat MZ Fungicide | Mancozeb
|  | Dimethomorph
000241 MA-99-0001 | Acrobat MZ Fungicide | Mancozeb
|  | Dimethomorph
000241 NC-99-0006 | Acrobat MZ Fungicide | Mancozeb
|  | Dimethomorph
000241 OR-06-0005 | Prowl H2O Herbicide | Pendimethalin
000241 TN-99-0003 | Acrobat MZ Fungicide | Mancozeb
|  | Dimethomorph
000241 WI-02-0013 | Acrobat Mz Fungicide | Mancozeb
|  | Dimethomorph
000264-00322 | Temik Brand 10g Aldicarb Pesticide | Aldicarb
000264-00331 | Temik 10% Granular Aldicarb Pesticide for Agric. Use | Aldicarb
000264-00972 | MZ-Curzate Potato Seed-Piece Treatment | Mancozeb
|  | Cymoxanil
000270-00305 | Equicare Flysect Repellent Face Lotion | 2,5-Pyridinedicarboxylic acid, dipropyl ester
|  | MGK 264
|  | Piperonyl butoxide
|  | Pyrethrins
000270-00306 | Equicare Flysect Repellent Spray | 2,5-Pyridinedicarboxylic acid, dipropyl ester
|  | MGK 264
|  | Piperonyl butoxide
|  | Pyrethrins
000270-00346 | Adams 14 Day Residual Flea and Tick Mist | 2,5-Pyridinedicarboxylic acid, dipropyl ester
|  | MGK 264
|  | Piperonyl butoxide
|  | Pyrethrins
000279 WA-04-0004 | Z-Cype 0.8 EC Insecticide | Zeta-Cypermethrin
000352-00607 | Dupont Glyphosate Herbicide | Glyphosate-isopropylammonium
000352-00609 | Dupont Glyphosate Vmf Herbicide | Glyphosate-isopropylammonium
000400-00092 | Vitavax - T Fungicide (vitavax with Thiram) | Thiram
|  | Carboxin
000400-00116 | Vitavax-R Flowable Fungicide | Thiram
|  | Carboxin
000400-00156 | Vitavax Pour-On Flowable Fungicide | Thiram
|  | Carboxin
000400-00278 | De-Fend E-267 Dimethoate Systemic Insecticide | Dimethoate
000400-00531 | Rival Pak | Pentachloronitrobenzene
|  | Thiabendazole
|  | Captan
|  | Metalaxyl
000400-00556 | Triple-Noctin L | Thiram
000432-01293 | Bayleton 25% Wettable Powder | Triadimefon
000432-01295 | Bayleton 1% Granular Turf Fungicide | Triadimefon
000432-01296 | Bayleton 0.5% Granular Turf Insecticide | Triadimefon
000432-01297 | Bayleton 009 EC Turf and Ornamental Fungicide | Triadimefon
000432-01309 | Bayleton 25 Turf and Orn.fungicide In Water Soluble Pac | Triadimefon
000432-01316 | Bayleton 25 Wettable Powder Nursery and Greenhouse Syst | Triadimefon
000432-01317 | Bayleton 25 Nursery and Greenhouse Systemic Fungicide III WS Packets | Triadimefon
000464-00671 | Amical 50 | Diiodomethyl p-tolyl sulfone
000464-00683 | Giv-Gard BNS 25%-AF | beta-Bromo-beta-nitrostyrene
000464-00684 | Bioban(r) BNS 25%-BA Industrial Preservative | beta-Bromo-beta-nitrostyrene
000464-00686 | Canguard 777 | beta-Bromo-beta-nitrostyrene
000554-00140 | DB-Green L | Lindane
|  | Maneb
000554-00141 | Agsco Dustret “A” | Streptomycin sulfate
|  | Maneb
000554-00148 | Agsco Dustret MZ 16 | Mancozeb
000554-00149 | Agsco DB-Red L | Maneb
000655-00466 | Prentox Dursban 2E Insecticide | Chlorpyrifos
000655-00499 | Prentox (r) Dursban 4E Insecticide | Chlorpyrifos
000769-00875 | Pratt NA Weed Killer Non Selective | 2,4-D, 2-ethylhexyl ester
|  | Prometon
000961-00284 | Greenview Spring Crabicide Crabgrass Preventer | Benfluralin
000961-00288 | Greenfield Crabicide Green | Benfluralin
000961-00321 | Lebanon Country Club 18-5-9 Fertilizer with Herbicide | Benfluralin
001001-00060 | Spotrete 75 WDG | Thiram
001381-00166 | Agrisolutions Delta-Coat AD | Chloroneb
|  | Metalaxyl
001381-00183 | Delta-Coat II | Chloroneb
|  | D-Alanine, N-(2,6-dimethylphenyl)-N-(methoxyacetyl)-, methyl ester
001448-00352 | Bulab 6050 | Endothall, mono(N,N,-dimethyl alkyl amine) salt
002724-00566 | Speer E-Z Way Automatic Fogger | Tetramethrin
|  | Fenvalerate
002724-00573 | World Class Crawling Insect Spray | d-trans-Chrysanthemum monocarboxylic ester of dl-2-allyl-4-hydroxy-3-methyl-2-cyclopenten-1-
|  | MGK 264
|  | Piperonyl butoxide
|  | Fenvalerate
002724-00577 | No More Varmints Residual Contact Spray | MGK 264
|  | Pyrethrins
|  | Fenvalerate
002724-00578 | Speer-It Fogger I Total Release Fogger | MGK 264
|  | Piperonyl butoxide
|  | Pyrethrins
|  | Fenvalerate
002724-00579 | Speer E-Z I Residual Spray | d-trans-Chrysanthemum monocarboxylic ester of dl-2-allyl-4-hydroxy-3-methyl-2-cyclopenten-1-
|  | MGK 264
|  | Fenvalerate
002724-00684 | Chaperone Rabbit & Deer Repellent | Thiram
002724-00743 | Heartland Multiuse Insect Fogger | Tetramethrin
|  | Fenvalerate
002724-00757 | Holiday Indoor Fogger II | MGK 264
|  | Piperonyl butoxide
|  | Fenvalerate
002724-00765 | F-Q-S Crack & Crevice Spray | MGK 264
|  | Piperonyl butoxide
|  | Fenvalerate
002724-00767 | Holiday Yard Spray | MGK 264
|  | Piperonyl butoxide
|  | Fenvalerate
002781-00025 | Happy Jack Flea-Tick Powder II | Carbaryl
005481-00213 | Alco Simazine 4G | Simazine
005481-00232 | Amine 4D Weed Killer | 2,4-D, dimethylamine salt
005481-00285 | 101 Brand Simazine 4g Granular Herbicide | Simazine
005887-00121 | Black Leaf Edging Liquid | Prometon
005887-00167 | Non-Selective Weed Killer | Prometon
005905-00072 | 2,4-D Amine | 2,4-D, dimethylamine salt
005905-00093 | Helena 2,4-D LV Ester 6 | 2,4-D, 2-ethylhexyl ester
005905-00498 | Brush-Rhap Low Volatile 4-D Herbicide | 2,4-D, 2-ethylhexyl ester
005905-00502 | Weed-Rhap A4-MCPA Herbicide | MCPA, dimethylamine salt
005905-00504 | Barrage | 2,4-D, 2-ethylhexyl ester
005905-00505 | Weed RHAP LV-4D | 2,4-D, 2-ethylhexyl ester
005905-00507 | Weed-RHAP Low Volatile Granular D Herbicide | 2,4-D, 2-ethylhexyl ester
005905-00533 | 4 Lb Methyl Parathion | Methyl parathion
005905-00534 | Malathion-Methyl Parathion Emulsifiable Liquid | Methyl parathion
|  | Malathion
007401-00043 | Ferti Lome Insect Killer (granular) contains Carbaryl | Carbaryl
007401-00265 | Ferti-Lome Home Garden Bug Bait | Metaldehyde
|  | Carbaryl
007501 OR-02-0023 | Gustafson Vitavax Captan 20-20 Seed Proctectant | Captan
|  | Carboxin
007969-00193 | 2,4-D DMA 600 | 2,4-D, dimethylamine salt
008660-00067 | Liquid Lime-Sulphur 32 Degrees Baume | Calcium polysulfide
|  | Calcium thiosulfate
010163-00135 | Gowan Sulfur 6F | Sulfur
010350-00022 | Mec Chlorpyrifos Livestock Premise Spray Concentrate | Chlorpyrifos
010404-00060 | Lesco Twosome Flowable Fungicide | Chlorothalonil
|  | Fenarimol
010807-00148 | Misty-C-Lex Concentrate | 2,4-D, dimethylamine salt
010807-00209 | Misty Tri-Kill | 2,4-D, dimethylamine salt
|  | Dimethylamine 2-(2,4-dichlorophenoxy)propionate
|  | Mecoprop, dimethylamine salt
010900-00035 | 864 Spot Weeder | Benzoic acid, 3,6-dichloro-2-methoxy-, compd with N-methylmethanamine (1:1)
|  | 2,4-D, dimethylamine salt
019713-00127 | Drexel Croak | MSMA (and salts)
|  | Fluometuron
019713-00309 | Pearson's Moly-Stand | Thiram
019713-00574 | Drexel Chlorpyrifos 98.5% Technical | Chlorpyrifos
019713-00582 | Drexel Propanil 4L | Propanil
019713-00598 | Master Fume AG | Sulfuryl fluoride
034704-00101 | Clean Crop Benefin 2.5 G | Benfluralin
051036-00226 | Lime-Sulfur | Calcium polysulfide
051036-00258 | Chloraxyl Seed Treater | Chloroneb
|  | Metalaxyl
059144-00033 | Penngreen Weed & Feed with Triamine | 2,4-D, dimethylamine salt
|  | Dimethylamine 2-(2,4-dichlorophenoxy)propionate
|  | Mecoprop, dimethylamine salt
059639 CO-98-0004 | Orthene 75 S Soluble Powder | Acephate
059639 UT-98-0002 | Orthene 75 S Soluble Powder | Acephate
059639 WA-06-0008 | Danitol 2.4 EC Spray | Fenpropathrin
062719-00398 | Dithane M-45 Flowable M Agricultural Fungicide | Mancozeb
062719-00401 | Dithane DF/70 Agricultural Fungicide | Mancozeb
062719-00422 | Fore WSP Turf and Ornamental Fungicide | Mancozeb
062719-00423 | Dithane Wsp Agricultural Fungicide | Mancozeb
062719 AR-93-0005 | Dithane F-45 Ag. Fungicide | Mancozeb
062719 CT-02-0004 | Dithane DF Rainshield | Mancozeb
062719 CT-97-0001 | Dithane DF Agricultural Fungicide | Mancozeb
062719 MA-97-0002 | Dithane DF Agricultural Fungicide | Mancozeb
062719 MS-93-0002 | Dithane F-45, Df Ag. Fungicide | Mancozeb
062719 OH-95-0003 | Diathane DF Agricultural Fungicide | Mancozeb
062719 SC-95-0009 | Diathane DF Agricultural Fungicide | Mancozeb
062719 WA-02-0010 | Dithane DF Rainshield | Mancozeb
062719 WA-95-0047 | Treflan H.F.P. | Trifluralin
062719 WA-99-0027 | Starane | Fluroxypyr
066330-00221 | Ametryn 4FL | Ametryn
070506-00049 | Turf and Ornamental Fertilizer contains Balan 0.575% + | Benfluralin
|  | Oryzalin
070506-00102 | Agvalue Metribuzin Technical | Metribuzin
071085-00004 | Propanil WDG | Propanil
071368 WA-01-0025 | Weedar 64 Broadleaf Herbicide | 2,4-D, dimethylamine salt
072155-00046 | Bayleton 1 Granular Fungicide | Triadimefon
072155-00047 | Bayleton Granular Fungicide | Triadimefon
072155-00048 | Bayleton Liquid Concentrate Fungicide | Triadimefon
073049-00261 | Tetramethrin 40% Concentrate Insecticide | Tetramethrin
073049-00285 | Tetralate 2.5-2.5 Mag | Tetramethrin
|  | Resmethrin
074655-00005 | Spectrum Rx-41 | Methylene bis(thiocyanate)
|  | beta-Bromo-beta-nitrostyrene
074655-00008 | Spectrum Rx-45 | beta-Bromo-beta-nitrostyrene
074655-00013 | Spectrum Rx-52 | Bis(trichloromethyl) sulfone
|  | beta-Bromo-beta-nitrostyrene
083424-00002 | Moth-Be-Gone Moth Balls 2 | Naphthalene

A request to waive the 180-day comment period has been received for the following registrations: 000769-00875; 002724-00684; 005887-00121; 007401-00043; 007401-00265; 008660-00067; 019713-00598; 073049-00261; 073049-00285.

Unless a request is withdrawn by the registrant within 180 days of publication of this notice, orders will be issued canceling all of these registrations. Users of these pesticides or anyone else desiring the retention of a registration should contact the applicable registrant directly during this 180-day period.

Table 2 of this unit includes the names and addresses of record for all registrants of the products in Table 1 of this unit, in sequence by EPA company number:

Table 2.—Registrants Requesting Voluntary Cancellation
EPA Company no. | Company Name and Address
000004 | Bonide Products, Inc., 6301 Sutliff Rd., Oriskany, NY 13424.
000056 | Eaton JT & Co., Inc., 1393 E. Highland Rd., Twinsburg, OH 44087.
000100 | Syngenta Crop Protection, Inc., Attn: Regulatory Affairs, PO Box 18300, Greensboro, NC 274198300.
000228 | Nufarm Americas Inc., 150 Harvester Drive, Suite 200, Burr Ridge, IL 60527.
000241 | BASF Corp., PO Box 13528, Research Triangle Park, NC 277093528.
000264 | Bayer Cropscience LP, 2 T.W. Alexander Drive, Research Triangle Park, NC 27709.
000270 | Farnam Companies Inc., PO Box 34820, Phoenix, AZ 85067.
000279 | FMC Corp. Agricultural Products Group, 1735 Market St., Philadelphia, PA 19103.
000352 | E. I. Du Pont De Nemours & amp;o., Inc., Dupont Crop Protection (S300/427), PO Box 30, Newark, DE 197140030.
000400 | Chemtura Corp., Attn: Crop Registration, 199 Benson Rd. (2-5), Middlebury, CT 06749.
000432 | Bayer Environmental Science, A Business Group of Bayer Cropscience LP, PO Box 12014, Research Triangle Park, NC 27709.
000464 | The Dow Chemical Co., Agent For: Dow Chemical Co., 1500 E. Lake Cook Rd., Buffalo Grove, IL 60089.
000554 | Agsco Inc., PO Box 13458, Grand Forks, ND 582083458.
000655 | Prentiss Inc., C.B. 2000, Floral Park, NY 110012000.
000769 | Value Gardens Supply, Llc, d/b/a Value Garden Supply, PO Box 585, Saint Joseph, MO 64502.
000961 | Lebanon Seaboard Corp., 1600 E. Cumberland Street, Lebanon, PA 17042.
001001 | Cleary Chemical Corp., 178 Ridge Rd., Suite A, Dayton, NJ 088100010.
001381 | Winfield Solutions, LlC, PO Box 64589, St. Paul, MN 551640589.
001448 | Buckman Laboratories Inc., 1256 North Mclean Blvd., Memphis, TN 38108.
002724 | Wellmark International, 1501 E. Woodfield Rd., Suite 200 W., Schaumburg, IL 60173.
002781 | Happy Jack Inc., PO Box 475, Snow Hill, NC 28580.
005481 | Amvac Chemical Corp., d/b/a Amvac, 4695 Macarthur Ct., Suite 1250, Newport Beach, CA 926601706.
005887 | Value Gardens Supply, LlC, d/b/a Value Garden Supply, PO Box 585, Saint Joseph, MO 64502.
005905 | Helena Chemical Co., 225 Schilling Blvd., Suite 300, Collierville, TN 38017.
007401 | Voluntary Purchasing Groups, Inc., PO Box 460, 230 FM 87, Bonham, TX 75418.
007501 | Gustafson LlC, PO Box 660065, Dallas, TX 75266.
007969 | BASF Corp., Agricultural Products, PO Box 13528, Research Triangle Park, NC 277093528.
008660 | United Industries Corp., d/b/a Sylorr Plant Corp., PO Box 142642, St. Louis, MO 631140642.
010163 | Gowan Co, PO Box 5569, Yuma, AZ 853665569.
010350 | 3M, Attn: Susan M. Price, 3M Center, Bldg 220-6E-03, St. Paul, MN 551441000.
010404 | Lesco Inc., 1301 E. 9th Street, Suite 1300, Cleveland, OH 441141849.
010807 | Amrep, Inc., 990 Industrial Park Drive, Marietta, GA 30062.
010900 | Sherwin-Williams Diversified Brands, 101 Prospect Ave., Cleveland, OH 44115.
019713 | Drexel Chemical Co., 1700 Channel Ave., Memphis, TN 38106.
034704 | Loveland Products, Inc., PO Box 1286, Greeley, CO 806321286.
051036 | BASF Sparks LlC, PO Box 13528, Research Triangle Park, NC 27709.
059144 | Regwest Co., Agent For: Gro Tec Inc., 30856 Rocky Rd., Greeley, CO 806319375.
059639 | Valent U.S.A. Corp., Agent For: Valent U.S.A. Corp., 1101 14th Street, NW, Suite 1050, Washington, DC 20005.
062719 | Dow Agrosciences LlC, 9330 Zionsville Rd 308/2E, Indianapolis, IN 462681054.
066330 | Arysta Lifescience North America Corp., 15401 Weston Parkway, Suite 150, Cary, NC 27513.
070506 | United Phosphorus, Inc., 630 Freedom Business Center, Suite 402, King Of Prussia, PA 19406.
071085 | Riceco LLC, 5100 Poplar Ave - Ste 2428, Memphis, TN 38137.
071368 | Nufarm, Inc., 150 Harvester Drive Suite 200, Burr Ridge, IL 60527.
072155 | Bayer Advanced, A Business Unit of Bayer Cropscience LP, PO Box 12014, Research Triangle Park, NC 27709.
073049 | Valent Biosciences Corp., 870 Technology Way, Suite 100, Libertyville, IL 600486316.
074655 | Hercules Inc., Agent For: Hercules Inc., 7910 Baymeadows Way, Jacksonville, FL 32256.
083424 | Technology Sciences Group, Inc., Agent For: Oxford & Hill Home Products, LLC, 1150 18th St, N.W., Suite 1000, Washington, DC 20036.

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before June 16, 2008. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a special review action, or where the Agency has identified significant potential risk concerns associated with a particular chemical.

List of Subjects

Environmental protection, Pesticides and pests.

Dated: December 11, 2007.
Kathryn Bouvé,
Acting Director, Information Technology and Resource Management Division, Office of Pesticide Programs.

[FR Doc. E7-24604 Filed 12-18-07; 8:45 am]

BILLING CODE 6560-50-S